DEPARTMENT OF THE TREASURY

Internal Revenue Service

Open Meeting of the Area 7 Taxpayer Advocacy Panel (Including the States of Alaska, California, Hawaii, and Nevada)

AGENCY: Internal Revenue Service (IRS), Treasury.

ACTION: Notice.

SUMMARY: An open meeting of the Area 7 committee of the Taxpayer Advocacy Panel will be conducted. The Taxpayer Advocacy Panel (TAP) is soliciting public comments, ideas, and suggestions on improving customer service at the Internal Revenue Service. The TAP will use citizen input to make recommendations to the Internal Revenue Service.

DATES: The meeting will be held Thursday, April 19, 2007, Friday, April 20, 2007 and Saturday, April 21, 2007.

FOR FURTHER INFORMATION CONTACT: Janice Spinks at 1-888-912-1227, or 206-220-6096.

SUPPLEMENTARY INFORMATION: Notice is hereby given pursuant to Section 10(a)(2) of the Federal Advisory Committee Act, 5 U.S.C. App. (1988) that an open meeting of the Area 7 Taxpayer Advocacy Panel will be held Thursday, April 19, 2007 from 12:30 p.m. Pacific Standard Time to 4:30 p.m. Pacific Standard Time; Friday, April 20, 2007 from 8 a.m. Pacific Standard Time to 4:30 p.m. Pacific Standard Time; and Saturday, April 21, 2007 from 8 a.m. Pacific Standard Time to 11 a.m. Pacific Standard Time at 950 Hotel Circle North, San Diego, California. The public is invited to make oral comments. Individual comments will be limited to 5 minutes. If you would like to have the TAP consider a written statement, please call 1-888-912-1227 or 206-220-6096, or write to Janice Spinks, TAP Office, 915 2nd Avenue, MS W-406, Seattle, WA 98174 or you can contact us at http://www.improveirs.org. Due to limited space, notification of intent to participate in the meeting must be made with Janice Spinks. Miss Spinks can be reached at 1-888-912-1227 or 206-220-6096.

The agenda will include the following: Various IRS issues.

Dated: March 14, 2007.
John Fay,
Acting Director, Taxpayer Advocacy Panel.

[FR Doc. E7-4969 Filed 3-19-07; 8:45 am]

BILLING CODE 4830-01-P